SMALL BUSINESS ADMINISTRATION

13 CFR Part 126

RIN 3245-AG86

National Defense Authorization Acts of 2016 and 2017, Recovery Improvements for Small Entities After Disaster Act of 2015, and Other Small Business Government Contracting; Correction

AGENCY: U.S. Small Business Administration.

ACTION: Final rule; correction; correcting amendment.

SUMMARY: The U.S. Small Business Administration (SBA or Agency) is correcting a final rule that appeared in the Federal Register on November 29, 2019. The final rule amended SBA's regulations to implement several provisions of the National Defense Authorization Acts (NDAA) of 2016 and 2017 and the Recovery Improvements for Small Entities After Disaster Act of 2015 (RISE Act), as well as to clarify existing regulations. This document corrects the final regulations.

DATES: Effective January 30, 2020.

FOR FURTHER INFORMATION CONTACT: Brenda Fernandez, Office of Policy, Planning and Liaison, 409 Third Street SW, Washington, DC 20416; (202) 205-7337; brenda.fernandez@sba.gov.

SUPPLEMENTARY INFORMATION: This is a correction to a final rule published November 29, 2019 (84 FR 65647).

List of Subjects in 13 CFR Part 126

Administrative practice and procedure, Government procurement, Penalties, Reporting and recordkeeping requirements, Small businesses.

Correction

In FR Doc. 2019-25517, appearing on page 65647 in the Federal Register of Friday, November 29, 2019, the following correction is made:

§ 126.601 [Corrected]

1. On page 65664, in the third column, remove instructions 17.a. and b. for § 126.601(h)(1)(i) and (ii).

Accordingly, 13 CFR part 126 is corrected by making the following correcting amendments:

PART 126—HUBZONE PROGRAM

1. The authority citation for part 126 continues to read as follows:

Authority: 15 U.S.C. 632(a), 632(j), 632(p), 644 and 657a; Pub. L. 111-240, 24 Stat. 2504.

§ 126.601 [Amended]

2. In § 126.601:

a. Redesignate paragraph (i) as paragraph (d);

b. Remove the paragraph heading from newly redesignated paragraph (d); and

c. Remove reserved paragraphs (e) through (h).

§ 126.619 [Amended]

3. In § 126.619, amend paragraphs (a)(3) and (4) by removing the phrase “HUBZone contract” and adding in its place the word “contract”.

Dated: January 9, 2020.
Robb N. Wong,
Associate Administrator, Government Contracting and Business Development.

[FR Doc. 2020-00756 Filed 1-29-20; 8:45 am]

BILLING CODE 8026-03-P